DEPARTMENT OF ENERGY

Federal Energy Regulatory Commission

[Docket Nos. CP01-384-000 and CP01-387-000]

Islander East Pipeline Company, L.L.C., Algonquin Gas Transmission Company; Notice of Site Visit

February 8, 2002.

On February 20, 2002, the staff of the Office of Energy Projects (OEP) will conduct a pre-certification site visit of Islander East Pipeline Company's Islander East Pipeline Project in New Haven County, Connecticut. Selected alternatives in Connecticut will be inspected by automobile and on foot, as appropriate. The site visit will start at 1:30 P.M. at the lobby of the Islander East Pipeline Company's Office at 454 East Main Street, Route 1, Branford, Connecticut. Representatives of Islander East will accompany the OEP staff.

All interested parties may attend. Those planning to attend must provide their own transportation. For additional information, contact the Commission's Office of External Affairs at (202) 208-1088.

Magalie R. Salas,
Secretary.

[FR Doc. 02-3640 Filed 2-13-02; 8:45 am]

BILLING CODE 6717-01-P